DEPARTMENT OF THE INTERIOR

Fish and Wildlife Service

Holla Bend National Wildlife Refuge in Pope and Yell Counties, AR

AGENCY: Fish and Wildlife Service.

ACTION: Notice of intent to prepare a comprehensive conservation plan and environmental assessment; request for comments.

SUMMARY: We, the Fish and Wildlife Service, intend to gather information necessary to prepare a comprehensive conservation plan and associated environmental documents for Holla Bend National Wildlife Refuge. We furnish this notice in compliance with our comprehensive conservation planning policy to advise other agencies and the public of our intentions, and to obtain suggestions and information on the scope of issues to be considered during the planning process.

DATES: To ensure consideration, we must receive your written comments by June 18, 2007.

ADDRESSES: Send your comments or requests for more information to: Ben Mense, Refuge Manager, Holla Bend National Wildlife Refuge, 10448 Holla Bend Road, Dardanelle, AR 72834; Telephone: 479/229-4300; or electronically to: ben_mense@fws.gov.

SUPPLEMENTARY INFORMATION: With this notice, we initiate the process for developing a comprehensive conservation plan for Holla Bend National Wildlife Refuge in Dardanelle, AR.

The National Wildlife Refuge System Administration Act of 1966, as amended by the National Wildlife Refuge System Improvement Act of 1997 (16 U.S.C. § 668dd-668ee), requires the Service to develop a comprehensive conservation plan for each national wildlife refuge. The purpose in developing a comprehensive conservation plan is to provide refuge managers with a 15-year strategy for achieving refuge purposes and contributing to the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

We establish each unit of the National Wildlife Refuge System with specific purposes. We use these purposes to develop and prioritize management goals and objectives within the National Wildlife Refuge System mission, and to guide which public uses will occur on these refuges. The planning process is a way for us and the public to evaluate management goals and objectives for the best possible conservation efforts of these important wildlife habitats, while providing for wildlife-dependent recreation opportunities that are compatible with the refuge's establishing purpose and the mission of the National Wildlife Refuge System.

We will conduct a comprehensive conservation planning process that will provide opportunity for Tribal, State, and local governments; agencies; organizations; and the public to participate in issue scoping and public comment. We request input for issues, concerns, ideas, and suggestions for management of the Holla Bend National Wildlife Refuge. We invite anyone interested to respond to the following two questions:

1. What problems or issues do you want to see addressed in the comprehensive conservation plan?

2. What improvements would you recommend for the Holla Bend National Wildlife Refuge?

We have provided the above questions for your optional use; you are not required to provide information to us. Our Planning Team developed these questions to gather information about individual issues and ideas concerning this refuge. Our Planning Team will use comments it receives as part of the planning process; however, we will not reference individual comments in our reports or directly respond to them.

We will conduct the environmental review of this project in accordance with the requirements of the National Environmental Policy Act of 1969, as amended (42 U.S.C. 4321 et seq.); NEPA Regulations (40 CFR parts 1500-1508); other appropriate Federal laws and regulations; and our policies and procedures for compliance with those regulations. All comments we receive on our environmental assessment become part of the official public record. We will handle requests for such comments in accordance with the Freedom of Information Act, NEPA [40 CFR 1506.6(f)], and other Departmental and Service policies and procedures. When we receive a request, we generally will provide comment letters with the names and addresses of the individuals who wrote the comments.

Holla Bend National Wildlife Refuge was established in 1957, under the Transfer of Real Property Act, as a result of a U.S. Army Corps of Engineers navigation and flood control project. This 6,616-acre refuge is six miles south of Dardanelle, Arkansas, just off of State Highway 155. The refuge lies along the Arkansas River and is bounded by an old oxbow that was created when the Corps of Engineers cut a channel through the bend in the river to promote navigation and flood control. The primary objectives of the refuge are to: (1) Provide habitat for migratory waterfowl; (2) provide habitat for endangered species; (3) provide habitat for resident wildlife; and (4) provide interpretation and recreation to the public.

Authority: This notice is published under the authority of the National Wildlife Refuge System Improvement Act of 1997, Public Law 105-57.

Dated: March 29, 2007.
Cynthia K. Dohner,
Acting Regional Director.

[FR Doc. E7-9483 Filed 5-16-07; 8:45 am]

BILLING CODE 4310-55-P